DEPARTMENT OF THE INTERIOR

Fish and Wildlife Service

Endangered and Threatened Wildlife and Plants; Initiation of 5-Year Reviews of 2 Species: Chihuahua Chub (Gila nigrescens) and Navasota Ladies'-Tresses (Spiranthes parksii)

AGENCY: Fish and Wildlife Service, Interior.

ACTION: Notice of reviews; request for information.

SUMMARY: We, the U.S. Fish and Wildlife Service (Service) initiate 5-year reviews of Chihuahua chub (Gila nigrescens) and Navasota ladies'-tresses (Spiranthes parksii) under the Endangered Species Act of 1973, as amended (Act). The purpose of reviews conducted under section 4(c)(2)(A) of the Act is to ensure that the classification of species as threatened or endangered on the List of Endangered and Threatened Wildlife and Plants is accurate.

The 5-year review is an assessment of the best scientific and commercial data available at the time of the review. Therefore, we are requesting submission of any new information (best scientific and commercial data) on Chihuahua chub and Navasota ladies'-tresses since their original listings as threatened in 1983 (48 FR 46053; October 11, 1983) and endangered in 1982 (47 FR 19539; May 6, 1982), respectively. If the present classification of either of these species is not consistent with the best scientific and commercial information available, we may recommend a change in Federal classification. A change would require a separate final rulemaking process.

DATES: To allow adequate time to conduct this review, we must receive any information submitted for our consideration on or before December 20, 2007. However, we will continue to accept new information about any listed species at any time.

ADDRESSES: Mail or hand deliver information on these species to us at the following addresses. Information we receive will be available for public inspection by appointment, during normal business hours, at the same addresses.

Navasota ladies'-tresses: Field Supervisor, Attention 5-year Review, U.S. Fish and Wildlife Service, Austin Ecological Services Field Office, 10711 Burnet Road, Suite 200, Austin, TX 78758. The office phone number is 512-490-0057. Alternatively, you may send information via e-mail to chris_best@fws.gov.

Chihuahua chub: Field Supervisor, Attention 5-year Review, U.S. Fish and Wildlife Service, New Mexico Ecological Services Field Office, 2105 Osuna Road, NE., Albuquerque, NM 87113. The office phone number is 505-346-2525. Alternatively, you may send information via e-mail to marilyn_myers@fws.gov.

FOR FURTHER INFORMATION CONTACT: For species-specific information, contact the appropriate person at the above addresses and phone numbers.

Individuals who are hearing impaired or speech impaired may call the Federal Relay Service at 800-877-8337 for TTY assistance.

SUPPLEMENTARY INFORMATION:

Why Do We Conduct a 5-year Review?

Section 4(c)(2)(A) of the Act (16 U.S.C. 1531 et seq.) requires that we conduct a review of listed species at least once every 5 years. We are then, under section 4(c)(2)(B) and the provisions of subsections (a) and (b), to determine, on the basis of such a review, whether or not any species should be removed (delisted) from the List of Endangered and Threatened Wildlife and Plants (50 CFR 17.12), or reclassified from endangered to threatened (downlisted), or from threatened to endangered (uplisted).

The 5-year review is an assessment of the best scientific and commercial data available at the time of the review. Therefore, we are requesting submission of any new information (best scientific and commercial data) on the Chihuahua chub and the Navasota ladies'-tresses. If the present classification of any of these species is not consistent with the best scientific and commercial information available, we will recommend whether or not a change is warranted in the Federal classification of that species. Any classification change would require a separate rulemaking process.

Our regulations at 50 CFR 424.21 require that we publish a notice in the Federal Register announcing those species currently under active review. This notice announces our active review of Chihuahua chub and Navasota ladies'-tresses.

What Information Do We Consider in Our Review?

We consider all new information available at the time of the 5-year review. These reviews consider the best scientific and commercial data that has become available since the current listing determination or most recent status review of each species, such as:

A. Species biology, including but not limited to population trends, distribution, abundance, demographics, and genetics;

B. Habitat conditions, including but not limited to amount, distribution, and suitability;

C. Conservation measures that we have implemented to benefit the species;

D. Threat status and trends (see five factors under heading “How do we determine whether a species is endangered or threatened?”); and

E. Other new information, data, or corrections, including but not limited to taxonomic or nomenclatural changes, identification of erroneous information contained in the List of Endangered and Threatened Wildlife and Plants, and improved analytical methods.

How Are Chihuahua Chub and Navasota Ladies'-Tresses Currently Listed?

The List of Endangered and Threatened Wildlife and Plants (List) is in 50 CFR 17.11 (wildlife) and 17.12 (plants). We publish amendments to the List through final rules in the Federal Register. The List is also available on our internet site at http://www.fws.gov/endangered/wildlife.html. In Table 1 below, we provide a summary of the listing information for both species.

Table 1.—Summary of Listing Information
Common name | Scientific name | Status | Where listed | Final listing rule
Chihuahua Chub | Gila nigrescens | Threatened | NM | October 11, 1983; 48 FR 46053.
Navasota ladies'-tresses | Spiranthes parksii | Endangered | TX | May 6, 1982; 47 FR 19539.

Definitions for This Notice

To help you submit information about the species we are reviewing, we provide the following definitions:

A. Species includes any species or subspecies of fish, wildlife, or plant, and any distinct population segment of any species of vertebrate, which interbreeds when mature.

B. Endangered means any species that is in danger of extinction throughout all or a significant portion of its range.

C. Threatened means any species that is likely to become an endangered species within the foreseeable future throughout all or a significant portion of its range.

How Do We Determine Whether a Species Is Endangered or Threatened?

Section 4(a)(1) of the Act establishes that we determine whether a species is endangered or threatened based on one or more of the five following factors:

A. The present or threatened destruction, modification, or curtailment of its habitat or range;

B. Overutilization for commercial, recreational, scientific, or educational purposes;

C. Disease or predation;

D. The inadequacy of existing regulatory mechanisms; or

E. Other natural or manmade factors affecting its continued existence.

Section 4(a)(1) of the Act requires that our determination be made on the basis of the best scientific and commercial data available.

What Could Happen as a Result of This Review?

If we find new information concerning either Chihuahua chub or Navasota ladies'-tresses indicating a change in classification may be warranted, we may propose a new rule that could do one of the following: (a) Reclassify the species from endangered to threatened (downlist); (b) reclassify the species from threatened to endangered (uplist); or (c) remove the species from the List. If we determine that a change in classification is not warranted, then these species will remain on the List under their current status.

Public Solicitation of New Information

We request any new information concerning the status of Chihuahua chub or Navasota ladies'-tresses. See “What Information Do We Consider in Our Review?” heading for specific criteria. Support any information you submit with documentation such as maps; bibliographic references; methods used to gather and analyze the data; and/or copies of any pertinent publications, reports, or letters by knowledgeable sources. Additionally, we specifically request recommendations pertaining to the development of, or potential updates to, recovery plans, and additional actions or studies that could benefit these species in the future.

Before including your address, phone number, e-mail address, or other personal identifying information in your comments, you should be aware that your entire comment—including your personal identifying information—may be made publicly available at any time. While you can ask us in your comment to withhold your personal identifying information from public review, we cannot guarantee that we will be able to do so.

Authority: We publish this document under the authority of the Endangered Species Act (16 U.S.C. 1531 et seq.).

Dated: August 21, 2007.
Christopher T. Jones,
Acting Regional Director, Southwest Region, Albuquerque, New Mexico.

[FR Doc. E7-18543 Filed 9-20-07; 8:45 am]

BILLING CODE 4310-55-P